DEPARTMENT OF COMMERCE

National Oceanic and Atmospheric Administration

RIN 0648-XC797

Mid-Atlantic Fishery Management Council (MAFMC); Meeting; Correction

AGENCY: National Marine Fisheries Service (NMFS), National Oceanic and Atmospheric Administration (NOAA), Commerce.

ACTION: Notice of public meeting; correction.

SUMMARY: The Mid-Atlantic Fishery Management Council's Spiny Dogfish Advisory Panel (AP) will meet to develop a Fishery Performance Report for the Spiny Dogfish fishery in preparation for the Council and the Council's Scientific and Statistical Committee review of specifications that have been set for the 2014 fishing year. The meeting date and time are being corrected in this document. All other information previously-published is repeated here.

DATES: Tuesday, September 10, 2013 at 1 p.m. until 4 p.m.

ADDRESSES: The meeting will be held via Webinar with a listening station also available at the Council Address below. Webinar link: http://mafmc.adobeconnect.com/dogfish/ Council Address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The original notice published at 78 FR 48421, August 8, 2013, and the correction to the meeting time published at 78 FR 52135, August 22, 2013. This document corrects the meeting time and date. The Advisory Panel will develop a Fishery Performance Report for consideration by the Council and the Council's SSC as they review spiny dogfish management measures established for the 2014 fishing year.

Special Accommodations:

The meeting is physically accessible to people with disabilities. Requests for sign language interpretation or other auxiliary aids should be directed to M. Jan Saunders at the Mid-Atlantic Council Office (302) 526-5251 at least five days prior to the meeting date.

Dated: August 23, 2013.
Tracey L. Thompson,
Acting Deputy Director, Office of Sustainable Fisheries, National Marine Fisheries Service.

[FR Doc. 2013-20987 Filed 8-27-13; 8:45 am]

BILLING CODE 3510-22-P